DEPARTMENT OF JUSTICE

Notice of Lodging Proposed Consent Decree

In accordance with Departmental Policy, 28 CFR 50.7, notice is hereby given that a proposed Consent Decree in United States of America v. Union Pacific Railroad Company, No. 2:09-CV-01453 (D. Nev.), was lodged with the United States District Court for the District of Nevada on August 6, 2009.

The proposed Consent Decree concerns a complaint filed by the United States against Union Pacific Railroad Company, pursuant to sections 309(b) and (d) of the Clean Water Act, 33 U.S.C. 1319(b) and (d), to obtain injunctive relief and civil penalties against Union Pacific Railroad Company for the unauthorized discharge of pollutants in Lincoln and Clark Counties, Nevada, in violation of sections 301(a), 402, and 404 of the Clean Water Act, 33 U.S.C. 1311(a), 1342, & 1344, and for failure to timely submit information in violation of section 308 of the Clean Water Act, 33 U.S.C. 1318. The proposed Consent Decree resolves these allegations by requiring Union Pacific Railroad Company to restore the impacted areas, to perform mitigation, and to pay a civil penalty.

The Department of Justice will accept written comments relating to this proposed Consent Decree for thirty (30) days from the date of publication of this Notice. Please address comments to Andrew J. Doyle, Trial Attorney, Environmental Defense Section, P.O. Box 23986, Washington, DC 20026, and refer to United States v. Union Pacific Railroad Company, DJ # 90-5-1-1-17847.

The proposed Consent Decree may be examined at the Clerk's Office, United States District Court for the District of Nevada, Las Vegas, or via the court's case management and electronic docketing system at https://ecf.nvd.uscourts.gov/cgi-bin/ShowIndex.pl. In addition, the proposed Consent Decree may be viewed at http://www.usdoj.gov/enrd/Consent_Decrees.html.

Maureen M. Katz,
Assistant Section Chief, Environment & Natural Resources Division.

[FR Doc. E9-19260 Filed 8-11-09; 8:45 am]

BILLING CODE P